DEPARTMENT OF TRANSPORTATION

Federal Transit Administration

Limitation on Claims Against Proposed Public Transportation Projects—Inglewood Transit Connector Project, and METRORapid Inner Katy Bus Rapid Transit Project

AGENCY: Federal Transit Administration (FTA), Department of Transportation (DOT).

ACTION: Notice.

SUMMARY: This notice announces final environmental actions taken by the Federal Transit Administration (FTA) regarding two projects: Inglewood Transit Connector Project, City of Inglewood (City), Los Angeles County, California; and METRORapid Inner Katy Bus Rapid Transit Project West Valley, Houston, Harris County, Texas. The purpose of this notice is to publicly announce FTA's environmental decisions on the subject projects and to activate the limitation on any claims that may challenge these final environmental actions.

DATES: A claim seeking judicial review of FTA actions announced herein for the listed public transportation projects will be barred unless the claim is filed on or before September 7, 2023.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation projects listed below. The actions on the projects, as well as the laws under which such actions were taken, are described in the documentation issued in connection with the projects to comply with the National Environmental Policy Act (NEPA) and in other documents in the FTA environmental project files for the projects. Interested parties may contact either the project sponsor or the relevant FTA Regional Office for more information. Contact information for FTA's Regional Offices may be found at https://www.transit.dot.gov.

This notice applies to all FTA decisions on the listed projects as of the issuance date of this notice and all laws under which such actions were taken, including, but not limited to, NEPA (42 U.S.C. 4321-4375), Section 4(f) requirements (23 U.S.C. 138, 49 U.S.C. 303), Section 106 of the National Historic Preservation Act (54 U.S.C. 306108), Endangered Species Act (16 U.S.C. 1531), Clean Water Act (33 U.S.C. 1251), Uniform Relocation and Real Property Acquisition Policies Act (42 U.S.C. 4601), and the Clean Air Act (42 U.S.C. 7401-7671q). This notice does not, however, alter or extend the limitation period for challenges of project decisions subject to previous notices published in the Federal Register. The projects and actions that are the subject of this notice follow:

1. Project name and location: Inglewood Transit Connector Project, City of Inglewood, Los Angeles County, California. Project Sponsor: The Los Angeles County Metropolitan Transportation Authority (LACMTA), Los Angeles, California. Project description: The Project includes construction of an approximately 1.6-mile long, fully elevated automated transit system (ATS), primarily located within the public right-of-way along Market Street, Manchester Boulevard, and Prairie Avenue. The elevated dual track guideway will include railroad switches for train crossover and other operational- and safety-related infrastructure improvements. The Project consists of construction of three center-platform stations, elevated pedestrian bridges, public parking lots and associated infrastructure improvements to address mobility and ADA compliance. The Project also involves construction of a maintenance and storage facility for maintenance of the ATS trains, operating equipment, and storage of the fleet as well as the construction of two power distribution system substations to run the train on the guideway and power for auxiliary and housekeeping needs.

Final agency actions: Section 4(f) de minimis impact determination, dated March 06, 2023; Section 106 No Adverse Effect determination, dated March 06, 2023; and Inglewood Transit Connector Project Finding of No Significant Impact (FONSI), dated March 16, 2023. Supporting documentation: The Inglewood Transit Connector Project Environmental Assessment (EA), dated October 14, 2022. The FONSI, EA and associated documents can be viewed and downloaded from: https://envisioninglewood.org/transportation-solutions/itc/.

2. Project name and location: METRORapid Inner Katy Bus Rapid Transit Project, Houston, Harris County, Texas. Project Sponsor: Metropolitan Transit Authority of Harris County (METRO), Houston, Texas. Project description: The project involves construction of a dedicated rapid transit route on the I-10 West Inner Katy corridor between I-610 and Downtown Houston. The project begins at Northwest Transit Center (NWTC) and continue east, south of I-10, on an approximately four-mile-long elevated guideway to Downtown Houston. Once in Downtown, the project will continue along the street pairings of Capitol and Rusk Streets to St. Emanuel Street. The project is divided into two segments: the Inner Katy Segment and Downtown Segment. The Inner Katy Segment will be grade-separated on new and existing structures. The Downtown Segment will be street-running. The project includes five new stations—three in the Inner Katy Segment and two in the Downtown Segment. In addition to the new stations, the project would also utilize the existing NWTC and three existing METRORail Green and Purple Lines stations along Capitol and Rusk Streets in Downtown.

Final agency actions: Section 4(f) No Use determination, dated January 23, 2023; Section 106 No Adverse Effect determination, dated October 17, 2022; and Determination of the applicability of a categorical exclusion pursuant to 23 CFR 771.118(d), dated January 23, 2023. Supporting documentation: Documented Categorical Exclusion (CE) and supporting materials, December 2022. The CE and associated documents can be viewed and downloaded from: https://www.ridemetro.org/about/metronext/metrorapid/metrorapid-inner-katy-corridor-project.

Authority: 23 U.S.C. 139(l)(1).

Megan Blum,
Acting Deputy Associate Administrator for Planning and Environment.

[FR Doc. 2023-07465 Filed 4-7-23; 8:45 am]

BILLING CODE 4910-57-P